DEPARTMENT OF TRANSPORTATION

Federal Motor Carrier Safety Administration

Availability of Grant Funds for the Thermal Imaging Inspection System Project

AGENCY: Federal Motor Carrier Safety Administration (FMCSA), DOT.

ACTION: Notice.

SUMMARY: This document announces the availability of grant funding under FMCSA's FY2006 Research Grants program as specified in the Safe, Accountable, Flexible, Efficient Transportation Equity Act: A Legacy For Users. The program provides one-time funding for a demonstration project that uses a thermal imaging inspection system that leverages state-of-the-art thermal imagery technology, integrated with signature recognition software, providing the capability to identify, in real time, faults and failures in tires, brakes, and bearings mounted on commercial motor vehicles. The period of performance for this project is 24 months from the date of award.

DATES: Applications for grant funding should be sent to FMCSA Headquarters no later than August 25, 2006.

FOR FURTHER INFORMATION CONTACT: Mr. Jeff Loftus, Federal Motor Carrier Safety Administration, Office of Research and Analysis, Technology Division (MC-RRT), 202-385-2363, 202-385-2422 (fax), jeff.loftus@dot.gov, 400 Virginia Avenue, SW., Suite 600, Washington, DC 20024. Office hours are from 9:30 a.m. to 6 p.m., e.t., Monday through Friday, except Federal holidays.

SUPPLEMENTARY INFORMATION:

Background

Section 5513(a) of the Safe, Accountable, Flexible, Efficient Transportation Equity Act: A Legacy For Users (SAFETEA-LU) [Pub. L. 109-59, August 10, 2005, 119 Stat. 1829] authorizes the thermal imaging inspection system (TIIS) project for FY2006 only. The authorized funding for the program is $2 million. Funding is subject to reductions resulting from obligation limitations, recisions, and takedowns as specified in SAFETEA-LU or other legislation. The actual amount available for this project after these reductions is $1,412,044. FMCSA anticipates making one award to one recipient. Incremental payments will be made at intervals corresponding to performance milestones agreed upon by the parties.

Funds are available to public nonprofit institutions/organizations, profit organizations, private nonprofit institutions/organizations, other private institutions/organizations, and institutions of higher education including public, private, or state colleges and universities who are eligible recipients of Federal assistance.

The Federal share of the funds is established by SAFETEA-LU as 80 percent. The 20 percent match may be in the form of dedicated funding, equipment, or in-kind services for this project. Allocations remain available for expenditure until fully spent.

Additional information on the TIIS project and its application process is available from the Catalog of Federal Domestic Assistance (CFDA) on the Internet at http://www.cfda.gov. The TIIS project is listed as CFDA number 20.236.

TIIS Project Objectives

The objectives of this project are to:

• Employ a TIIS in a field environment, along the interstate, to further assess the system's ability to identify faults in tires, brakes, and bearings mounted on commercial motor vehicles (CMVs);

• Establish, through statistical analysis, the probability of failure for each component; and

• Develop and integrate a predictive tool into the TIIS, which identifies an impending tire, brake, or bearing failure and provides a timeframe in which this failure may occur.

Application and Selection Process

The Secretary may enter a grant agreement with a public or private organization including an institution of higher education that has the most responsive grant application to the objectives of this project.

The applicant must submit an application form (SF-424, SF-424A, and SF-424B) and proposal to FMCSA Office of Research and Analysis, Technology Division no later than August 25, 2006.

The application must include sections on relevant past performance, technical and management approach, budget, schedule, and personnel. Additionally, it must address the following project tasks:

• Develop a project work plan,

• Develop a concept of operations document,

• Conduct technology trade-off analyses,

• Develop a test and evaluation plan,

• Conduct analyses of component failures,

• Develop a predictive decision support tool,

• Integrate the tool into the TIIS,

• Conduct a demonstration of the TIIS with the predictive tool along the interstate,

• Write an annual report of progress and activities, and

• Write a final report.

To receive consideration for award, an applicant must submit its budget along with adequate documentation that supports the factors listed below. The documentation must demonstrate a clear understanding of and the ability to accomplish the project objectives.

Factor 1: Past Performance

The past performance data must not exceed one page for each grant or contract referenced.

To substantiate its past performance, each applicant is requested to submit information on at least three of the Government grants or contracts or commercial contracts it performed within the past three years. The applicant must provide demonstrated experience in work effort similar in size, scope, magnitude, complexity, and cost to the project objectives. The past performance data can include information on grants or contracts on which the applicant, or any proposed subgrantee or subcontractor, has performed or is performing. The applicant must include the following on each grant or contract referenced in its proposal:

• Project statistical information

○ Name and address of the activity;

○ Grant or contract number;

○ Agreement type;

○ Place of performance;

○ Date of project and period of performance;

○ Total project value;

○ Government Sponsor's name, telephone number, and e-mail address;

○ Program Manager's name, telephone number, and e-mail address; and

○ List of major subgrantees or subcontractors.

• The applicant must include a description of the projects cited in order to demonstrate relevance to the requirements outlined in the project objectives. The applicant must also identify and state the reasons for any terminations.

Note: In the event that an applicant has no past performance history, e.g., a new firm, this rating factor will be considered neutral and will neither increase an applicant's overall rating nor decrease it.

Factor 2: Technical and Management Approach

This section cannot exceed 30 pages.

The applicant's proposed approach must include adequate documentation to clearly demonstrate a thorough understanding of the project objectives. Each applicant must:

• Describe in sufficient detail the technical capability of its proposed resources to meet the project objectives, including projects completed and current training completed that are applicable to the functions to be performed;

• Provide a proposed matrix that demonstrates that it possesses the capability to manage and the staff to perform the work;

• Provide an unpriced matrix that includes labor category/skill level and labor category descriptions;

• List the skills of the Program Manager, including relative experience and expertise; and

• Describe its proposed quality control measures in sufficient detail to demonstrate that established procedures would adequately recognize substandard performance and document corrective actions.

Factor 3: Budget

The applicant must provide budget information as required in SF-424, SF-424A, and SF-424B as well as all associated budget supplemental documentation.

As an alternative, an applicant can apply for the TIIS project funding by using the grants.gov electronic application process. To use this process, the applicant must have a DUNS number and be registered with grants.gov. To obtain a DUNS number or register with grants.gov, go to http://www.grants.gov/GetStartedRoles?type=aor.

To apply for a grant using the grants.gov process, the applicant must download, complete, and submit the grant application package. This can be done on the Internet at http://www.grants.gov/Apply?campaignid=tabnavtracking081105.

The grants.gov application process will be available for use by the TIIS project on July 26, 2006.

Grant Evaluation Criteria

Upon receipt, the applications will be evaluated by FMCSA for potential funding. Selection of a successful applicant will be made based upon the evaluation criteria stated below.

Factor 1: Past Performance

FMCSA will conduct a performance risk assessment based upon the applicant's past performance, as well as that of its proposed subgrantees and subcontractors, as it relates to the probability of successful accomplishment of the project. When assessing performance risk, FMCSA will focus its inquiry on the past performance of the applicant and its proposed subgrantees and subcontractors as to cost, schedule, and performance—including the applicant's adherence to project schedules and administrative aspects of performance as well as its history for reasonable and cooperative commitment to Federally-assisted programs.

The assessment of performance risk is not intended to be the product of a mechanical or mathematical analysis of an applicant's performance on a list of grants but rather the product of subjective judgment of the evaluation team after it considers all available information. FMCSA's definitions of performance risk are:

• High Performance Risk: Based on the applicant's performance record, or lack of related experience on which past performance may be measured, significant doubt exists that the applicant can successfully complete the project within the estimated cost and schedule.

• Moderate Performance Risk: Based on the applicant's performance record, some doubt exists that the applicant can successfully complete the project within the estimated cost and schedule.

• Low Performance Risk: Based on the applicant's performance record, little doubt exists that the applicant can successfully complete the project within the estimated cost and schedule.

• Neutral Rating: There is no evidence that past performance information exists for the applicant.

Factor 2: Technical and Management Approach

FMCSA will evaluate the applicant's:

• Proposed technical and management approach to ensure that it clearly demonstrates a thorough understanding of the project,

• Information to determine the technical capability of its proposed resources to meet the requirements outlined in the project objectives,

• Proposed personnel matrix to determine if sufficient resources exist that demonstrate that the applicant possesses the capability to manage and the staff to carry out the project,

• Unpriced personnel matrix to ensure it includes the right mix of labor category/skill level, and

• Proposed quality control measures to determine if established procedures will adequately recognize problems and employ appropriate corrective actions.

Factor 3: Budget

Budget information will be analyzed for reasonableness and completeness to include the 24-month period of the project. This evaluation may include a comparison of the applicant's proposed prices to those of other applicants and to prices paid under similar grants.

The applicant who has been approved for funding will enter into a grant agreement with FMCSA. The grant agreement must be in accordance with OMB Circulars A-21, A-110, A-122, and A-133.

Issued on: July 18, 2006.
David H. Hugel,
Acting Administrator.

[FR Doc. E6-11875 Filed 7-25-06; 8:45 am]

BILLING CODE 4910-EX-P